DEPARTMENT OF VETERANS AFFAIRS

[OMB Control No. 2900-New (EVHAMHS)]

Agency Information Collection Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information as abstracted below to the Office of Management and Budget (OMB) for review and comment. The PRA submission describes the nature of the information collection and its expected cost and burden; it includes the actual data collection instrument.

DATES: Comments must be submitted on or before December 6, 2007.

ADDRESSES: Submit written comments on the collection of information through www.Regulations.gov; or to VA's OMB Desk Officer, OMB Human Resources and Housing Branch, New Executive Office Building, Room 10235, Washington, DC 20503 (202) 395-7316. Please refer to “OMB Control 2900-New (EVHAMHS)” in any correspondence.

FOR FURTHER INFORMATION CONTACT: Denise McLamb, Initiative Coordination Service (005R1B), Department of Veterans Affairs, 810 Vermont Avenue, NW., Washington, DC 20420, (202) 461-7485, fax (202) 273-0443 or e-mail denise.mclamb@mail.va.gov. Please refer to “OMB Control No. 2900-New (EVHAMHS)”.

SUPPLEMENTARY INFORMATION: Title: Evaluation of Veterans Health Administration Mental Health Services.

OMB Control Number: 2900-New (EVHAMHS).

Type of Review: New collection.

Abstract: VA will use the data collected to assess the achievement of Veterans Health Administration program outcomes in the area of mental health services for schizophrenia, bipolar disorder, post-traumatic stress disorder, major depression, and substance use disorders, as well as the implementation and impact of the Mental Health Strategic Plan. The data will assist the VA in determining the type, level, and quality of care provided, and the degree of satisfaction for the five mental health diagnoses across the continuum of care, and, when performance falls short, to develop recommendations for improvements.

An agency may not conduct or sponsor, and a person is not required to respond to a collection of information unless it displays a currently valid OMB control number. The Federal Register Notice with a 60-day comment period soliciting comments on this collection of information was published on August 22, 2007, at pages 47127-47128.

Affected Public: Individuals or households.

Estimated Total Annual Burden: 4,109 hours.

Estimated Average Burden Per Respondent: 30 minutes.

Frequency of Response: One-time.

Estimated Number of Respondents: 8,218.

Dated: October 30, 2007.
By direction of the Secretary.
Denise McLamb,
Program Analyst, Records Management Service.

[FR Doc. E7-21783 Filed 11-5-07; 8:45 am]

BILLING CODE 8320-01-P